DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 70617-18, dated November 22, 2005) is amended to reflect the reorganization of the Facilities Planning and Management Office, within the Office of the Chief Operating Officer, Centers for Disease Control and Prevention.

Section C-B, Organization and Functions, is hereby amended as follows:

Delete in its entirety the titles and functional statements for the Facilities Planning and Management Office (CAJ3) and insert the following:

Buildings and Facilities Office (CAJC). (1) Operates, maintains, repairs, and modifies CDC's Atlanta area plant facilities, and conducts a maintenance and repair program for CDC's program support equipment; (2) carries out facilities planning functions for CDC, including new or expanded facilities, and a major repair and improvement program; (3) develops services for new, improved, and modified equipment to meet program needs, i.e., building related and installed equipment such as HVAC, bio safety cabinets, chemical fume hoods, walk-in freezers, etc; and (4) conducts CDC's real property and space management activities, including the acquisition of leased space, the purchase and disposal of real property, and provides technical assistance in space planning to meet programmatic needs.

Office of the Director (CAJC1). (1) Plans, directs, and coordinates the functions and activities of the Buildings and Facilities Office (BFO); (2) provides management and administrative direction for budget planning and execution, property management, and personnel management within BFO; (3) provides leadership and strategic support to senior managers in the determination of CDC's long-term facilities needs; (4) coordinates the operations of BFO staff involved in the planning, evaluation, design, construction, and management of facilities and acquisition of property; (5) provides centralized value engineering (VE) services, policy development and coordination, and global acquisition planning for BFO; (6) develops and maintains the Integrated Facilities Management System to process data for management and control systems, and develop reports and analyses; and (7) assists and advises senior CDC officials in the development, coordination, direction, and assessment of facilities and real property activities throughout CDC's facilities and operations, and assures consideration of facilities management implications in program decisions.

Capital Improvements Management Office (CAJCB). (1) Provides professional architectural/engineering capabilities, and technical and administrative project support to CDC and the national centers (NC) for renovations and improvements to CDC-owned facilities and construction of new facilities; (2) develops project management requirements (including determination of methods, means of project completion, and selection of resources); (3) provides critical path method scheduling support for all large capital construction projects and all repair and improvements (R&I) projects; and (4) provides central cost estimating support for all large capital construction projects, all R&I projects, special projects, feasibility studies, as requested, and certain work orders, as requested.

Design Engineering Management Office (CAJCC). (1) Prepares architectural and engineering designs, and specifications for construction of modifications and renovations to CDC-owned facilities; (2) provides architectural and engineering technical expertise and is the technical authority on new facilities, and modifications and renovations on facility project designs; (3) provides furniture, fixture, and equipment designs, and project management services for all CDC facilities; (4) provides record and guideline document support services to all BFO offices; and (5) maintains CDC Design Standards and Guidelines for use as basis of design for construction of new facilities, and modifications and renovations in CDC-owned facilities.

Facilities Maintenance & Engineering Office (CAJCD). (1) Operates, maintains, repairs, and modifies CDC's Atlanta area plant facilities and other designated CDC facilities throughout the United States (US) and Puerto Rico (PR), and conducts a maintenance and repair program for CDC's program support equipment; (2) develops services for new, improved, and modified equipment to meet program needs; (3) provides technical assistance, reviews maintenance and operation programs, and recommends appropriate action for all Atlanta area facilities and other designated CDC facilities throughout the US and PR; (4) provides recommendations, priorities, and services for new, improved, or modified equipment to meet program needs; (5) provides maintenance and operation of the central energy plant including structures, utilities production and distribution systems, and equipment; (6) conducts a program of custodial services, waste disposal, incinerations, disposal of biological waste, and other building services at all CDC Atlanta area facilities and other designated CDC facilities throughout the US and PR; (7) provides landscape development, repair, and maintenance at all CDC Atlanta area facilities and other designated CDC facilities throughout the US and PR; (8) provides hauling and moving services for CDC in the Atlanta area; (9) provides an Integrated Pest Management Program to control insect and rodents for CDC in Atlanta area facilities; (10) develops required contractual services and provides supervision for work performed in these areas; (11) establishes and maintains a computerized system for maintenance services, for stocking and ordering supplies, and replacement parts; (12) provides for pick-up and delivery of supplies and replacement parts; to work sites; (13) maintains adequate stock levels of supplies and replacement parts; (14) as needed, prepares designs and contract specifications, and coordinates completion of contract maintenance projects; (15) manages CDC's Energy Conservation Program for all CDC facilities; (16) reviews all construction documents for energy conservation goals and compliance with applicable CDC construction standards; (17) participates on all core teams and VE teams; (18) provides maintenance and inspection for fire extinguishers and fire sprinkler systems; (19) provides services for the procurement of natural gas; (20) develops and maintains a standard equipment list for all CDC facilities; (21) assists the Design Engineering Management Office and the Capital Improvements Management Office with facility-related issues; (22) provides building coordinators to interface with program personnel and all work to keep the building and equipment functioning; and (23) responsible for new building commissioning.

Real Property Management Office (CAJCE). (1) Conducts the real estate activities throughout CDC, including the acquisition of leased space, the purchase and disposal of real property for CDC nationwide (with emphasis on current and long-range planning for utilization of existing and future real property resources); (2) responsible for space assignment and utilization of all CDC space, both owned and leased, nationwide; (3) provides technical assistance in space planning to meet programmatic needs; (4) responsible for executing all easements for owned property; (5) administers day-to-day management of leased facilities and ensures contract compliance by lessors; (6) provides technical assistance and prepares contract specifications for all repair and improvement projects in leased space; (7) maintains liaison with the General Services Administration Regional Offices; (8) performs all functions relating to leasing and/or acquisition of real property under CDC delegation of authority for leasing, including direct lease actions; and (9) coordinates the relocation of CDC personnel within owned and leased space.

Dated: November 28, 2005.
William H. Gimson,
Chief Operating Officer, Centers for Disease Control and Prevention (CDC).

[FR Doc. 05-23689 Filed 12-6-05; 8:45 am]

BILLING CODE 4160-18-M